DEPARTMENT OF JUSTICE

Antitrust Division

Notice Pursuant to the National Cooperative Research and Production Act of 1993—National Conference of Public Officials, Inc.

Notice is hereby given that, on December 11, 2006, pursuant to Section 6(a) of the National Cooperative Research and Production Act of 1993, 15 U.S.C. 4301 et seq. (“the Act”), National Conference of Public Officials, Inc. (“NCOPO”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: National Conference of Public Officials, Inc., Philadelphia, PA. The nature and scope of NCOPO's standards development activities are: To develop, plan, establish, coordinate and publish voluntary consensus standards applicable to the fields of government ethics, accountability and productivity. Specifically, NCOPO, a nonprofit corporation consisting of elected and appointed public officials as voting members and attorneys, government contractors, nonprofit organizations engaged in public advocacy, political parties and other stakeholders as non-voting members, develops, plans, establishes, coordinates and publishes voluntary consensus standards in the form of model uniform codes and standards for adoption with or without modification by any Federal, State or municipal governmental unit as statutes, ordinances, administrative codes and regulations, or court rules of procedures covering nine topical subjects, consisting of (1) Ethics and standards of conduct for public and political officeholders; (2) public safety, Homeland and national security; (3) prosecution, public defenders, legal aid societies, and other court and judicial matters; (4) public accessibility to government, campaign financing, voting accessibility, elections and administration of political parties and campaign committees; (5) administrative and regulator processes; (6) land use, planning, zoning, environmental protection and energy conservation; (7) public infrastructure, public property, transportation and public transit; (8) delivery of healthcare and social relief and welfare services, public education; and (9) other miscellaneous matters not covered by the aforementioned topics.

Patricia A. Brink,
Deputy Director of Operations, Antitrust Division.

[FR Doc. 07-316 Filed 1-24-07; 8:45 am]

BILLING CODE 4410-11-M